DEPARTMENT OF AGRICULTURE

Forest Service

Southern Arizona Resource Advisory Committee

AGENCY: Forest Service, USDA.

ACTION: Notice of meeting.

SUMMARY: The Southern Arizona Resource Advisory Committee will meet in Tucson, Arizona. The purpose of the meeting is for the committee members to review and recommend the projects to be funded with the Secure Rural Schools and Community Self-Determination Act funding.

DATES: The meeting will be held February 22, 2011, beginning at 9:30 a.m. to approximately 5 p.m.

ADDRESSES: The meeting will be held at the Pima County Parks and Recreation Department, 3500 West River Road, Tucson, AZ 85741. Send written comments to Jennifer Ruyle, RAC Coordinator, Southern Arizona Resource Advisory Committee, c/o Coronado National Forest, 300 W. Congress, Tucson, Arizona 85701 or electronically to jruyle@fs.fed.us.

FOR FURTHER INFORMATION CONTACT: Jennifer Ruyle, Coronado National Forest, (520) 388-8351.

SUPPLEMENTARY INFORMATION: The meeting is open to the public and opportunity for public input will be provided. Committee discussion is limited to Forest Service staff and Committee members. However, persons who wish to bring Public Law 110-343 related matters to the attention of the Committee may file written statements with the Committee staff before or after the meeting.

Dated: December 27, 2010.
Reta Laford,
Deputy Forest Supervisor, Coronado National Forest.

[FR Doc. 2010-33348 Filed 1-5-11; 8:45 am]

BILLING CODE 3410-11-M